DEPARTMENT OF AGRICULTURE

Food and Nutrition Service

Agency Information Collection Activities: Comment Request—Supplemental Nutrition Assistance Program Education and Obesity Prevention Grant (SNAP-Ed) State Plan and Annual Report System

AGENCY: Food and Nutrition Service (FNS), USDA.

ACTION: Notice.

SUMMARY: In accordance with the Paperwork Reduction Act of 1995, this notice invites the general public and other public agencies to comment on this proposed information collection. This collection is a revision of a currently approved collection for the electronic reporting forms, SNAP-Ed Annual Report (Form FNS-925A) and SNAP-Ed State Plan (Form FNS-925B), as required in the 2018 Farm Bill.

DATES: Written comments must be received on or before November 3, 2025.

ADDRESSES: Comments may be sent to: Aurora Calvillo Buffington, Food and Nutrition Service, U.S. Department of Agriculture, Supplemental Nutrition Assistance Program, 1320 Braddock Place, 5th Floor, Alexandria, VA 22314. Comments also may be submitted via email to SNAP-Ed@usda.gov. Comments also will be accepted through the Federal eRulemaking Portal. Go to http://www.regulations.gov and follow the online instructions for submitting comments electronically.

All responses to this notice will be summarized and included in the request for Office of Management and Budget (OMB) approval. All comments will be a matter of public record.

FOR FURTHER INFORMATION CONTACT: Requests for additional information or copies of this information collection should be directed to Aurora Calvillo-Buffington at (703) 305-2820 or SNAP-Ed@usda.gov.

SUPPLEMENTARY INFORMATION: Comments are invited on: (a) whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Supplemental Nutrition Assistance Program Education and Obesity Prevention Grant (SNAP-Ed) State Plan and Annual Report System.

Form Number: SNAP-Ed Annual Report (Form FNS-925A) and SNAP-Ed State Plan (Form FNS-925B).

OMB Number: 0584-0683.

Expiration Date: April 30, 2026.

Type of Request: Renewal of a currently approved collection.

Abstract: The U.S. Department of Agriculture's (USDA) Food and Nutrition Service (FNS) administers the Supplemental Nutrition Assistance Program (SNAP). The SNAP Nutrition Education and Obesity Prevention Grant Program (referred to as SNAP-Ed), established by the Food and Nutrition Act of 2008, as amended (Pub. L. 115-334, “The Act”), is the nutrition education and promotion component of SNAP. Per regulations at 7 CFR 272.2(d), State SNAP agencies have the option to provide nutrition education for persons who are eligible to receive SNAP benefits and other means-tested Federal assistance programs. The goal of SNAP-Ed is to improve the likelihood that persons eligible for SNAP will make healthy food choices within a limited budget and choose physically active lifestyles consistent with the current Dietary Guidelines for Americans and USDA food guidance. SNAP-Ed's target audience includes low-income individuals eligible to receive benefits under SNAP or other means-tested Federal assistance programs and individuals residing in communities with a significant low-income population. State SNAP agencies have the option of providing SNAP-Ed services to SNAP recipients as part of their SNAP operations. As of 2025, 52 of the 53 States and Territories implement some form of SNAP-Ed programming. Participating States annually receive federally allocated grants that are used to cover States' SNAP-Ed expenses at a rate of 100 percent. State SNAP agencies contract with sub-grantees, referred to as implementing agencies, to carry out SNAP-Ed programming. Implementing agencies include cooperative extension offices, universities, State departments of health or education, State-level nutrition networks, food banks, and other organizations. SNAP-Ed programming can comprise a wide range of evidence-based approaches, including direct education; policy, systems, and environmental changes; and social marketing campaigns. The annual SNAP-Ed Plan Guidance, available online (https://snaped.fns.usda.gov/administration/snap-ed-guidance-and-policy) describes SNAP-Ed programming options in detail.

As directed by the Agriculture Improvement Act of 2018 (“2018 Farm Bill”, Pub. L. 115-334), FNS improved the SNAP-Ed reporting process by providing States with an electronic, online reporting system. States submit their annual SNAP-Ed State Plans (FNS-925B) and SNAP-Ed Annual Reports (FNS-925A) in this system. The system provides FNS with data that are consistent across States, which facilitates data aggregation and nationwide evaluation of SNAP-Ed. This system also streamlines the submission and review process for States and FNS, for example, by using autofill to avoid re-entering repeated information and automatically skipping sections not needed for a particular State agency's plan or report. Under this renewal, FNS updated the forms to promote clarity, information accuracy, and analysis. Specifically, FNS removed fields, for example removed fields that were previously optional, added fields, for example to document State agency engagement with Tribal consultations, and updated the order and phrasing of several fields, for example clarified how agencies report direct education outcome measures. This renewal does not change submission deadlines for SNAP-Ed State plans or annual reports.

In developing the burden estimates for this information collection, FNS categorized States into one of four burden levels (Groups A through D, where Group A represents the smallest burden level and Group D represents the largest burden level). This categorization takes into account both the State's SNAP-Ed funding allocation and the number of implementing agencies that a State must coordinate with for purposes of SNAP-Ed planning and reporting (as a proxy for the level of effort and coordination needed in a State). FNS held meetings with the consultation group on February 25 and 28, 2025. The consultation group included nine SNAP-Ed affiliated representatives responsible for submitting SNAP-Ed State plans and annual reports, representing the four State burden levels. The group provided feedback on the content, clarity, and burden estimate for this information collection. Based on this feedback, FNS has refined the burden hours for FNS forms 925A and 925B. In addition, through this notice, FNS seeks public comments on the burden estimate for this information collection.

Affected Public: State agencies that elect to request Federal SNAP-Ed grant funds to conduct nutrition education and obesity prevention services, and SNAP-Ed implementing agencies.

Estimated Number of Respondents: 53 State agencies (50 U.S. States, District of Columbia, Guam, and the U.S. Virgin Islands) and 144 implementing agencies (93 State government agencies, 1 local government agency, 10 Tribal government agencies, and 40 not-for-profit institutions).

Estimated Number of Responses per Respondent: 11 responses per respondent per year. This total number of responses includes: (1) submission of the SNAP-Ed State Plan form once a year by the State Agency (1 response); (2) submission of the SNAP-Ed Annual Report form once a year by the State Agency (1 response); (3) a quarterly review by the State or Implementing Agency of standards established in regulation, SNAP-Ed Plan Guidance, and other FNS policy ((4 responses); (4) State Agency activities to meet FNS fiscal recordkeeping requirements quarterly (4 responses); and (5) completion of training (1 response).

Estimated Total Annual Responses: 2,100.

Estimated Time per Response: 88.7881 hours.

Estimated Total Annual Burden on Respondents: 186,455 hours. See the table below for estimated total annual burden for each type of respondent.

SNAP-ed Annual Plan and Reports Burden Hours
Respondent type (A) | Burden activity (B) | Est. number of respondents (C) | Total burden hours | Previously approved burden hours | Change in burden hours due to an adjustment | Change in burden hours due to program change | Total difference in burden hours
Reporting
State Agencies that Administer the Program | Prepare and submit SNAP-Ed State Plan Form | 53 | 6,042 | 5,554 | 488 | 0 | 488
| Prepare and submit SNAP-Ed Annual Report Form | 53 | 1,272 | 1,160 | 112 | 0 | 112
Subtotal for State Agencies that Administer the Program | 53 | 7,314 | 6,714 | 600 | 0 | 600
Implementing Agencies— | Prepare and submit SNAP-Ed State Plan Form | 93 | 48,825 | 55,836 | −7,011 | 0 | −7,011
State Government | Prepare and submit SNAP-Ed Annual Report Form | 93 | 23,064 | 26,456 | −3,392 | 0 | −3,392
Subtotal for Implementing Agencies—State Government | 93 | 71,889 | 82,291 | −10,402 | 0 | −10,402
Implementing Agencies— | Prepare and submit SNAP-Ed State Plan Form | 1 | 15 | 92 | −77 | 0 | −77
Local Government | Prepare and submit SNAP-Ed Annual Report Form | 1 | 7 | 39 | −32 | 0 | −32
Subtotal for Implementing Agencies—Local Government | 1 | 22 | 131 | −109 | 0 | −109
Implementing Agencies— | Prepare and submit SNAP-Ed State Plan Form | 10 | 280 | 266 | 14 | 0 | 14
Tribal Government | Prepare and submit SNAP-Ed Annual Report Form | 10 | 120 | 119 | 1 | 0 | 1
Subtotal for Implementing Agencies—Tribal Government | 10 | 400 | 385 | 15 | 0 | 15
Total Estimated Reporting Burden for State/Local/Tribal Government Level | 157 | 79,625 | 89,522 | −9,897 | 0 | −9,897
Implementing Agencies— | Prepare and submit SNAP-Ed State Plan Form | 40 | 11,840 | 29,765 | −17,925 | 0 | −17,925
Not-For-Profit Institution | Prepare and submit SNAP-Ed Annual Report Form | 40 | 5,480 | 13,707 | −8,227 | 0 | −8,227
Subtotal for Implementing Agencies—Not-For-Profit Institution | 40 | 17,320 | 43,472 | −26,152 | 0 | −26,152
Total Estimated Reporting Burden for Business Level | 40 | 17,320 | 43,472 | −26,152 | 0 | −26,152
TOTAL ESTIMATED REPORTING BURDEN | 197 | 96,945 | 132,994 | −36,049 | 0 | −36,049
Recordkeeping
State Agencies that Administer the Program | Review standards, SNAP-Ed Plan Guidance, and other FNS policy | 53 | 8,268 | 14,963 | −6,695 | 0 | −6,695
| Complete training | 21 | 63 | 67 | −4 | 0 | −4
| Recordkeeping requirements. | 53 | 5,512 | 5,544 | −32 | 0 | −32
Subtotal | 53 | 13,843 | 20,574 | −6,731 | 0 | −6,731
Implementing Agencies— | Review standards, SNAP-Ed Plan Guidance, and other FNS policy | 93 | 33,852 | 99,438 | −65,586 | 0 | −65,586
State Government | Complete training | 67 | 201 | 219 | −18 | 0 | −18
| Recordkeeping requirements. | 93 | 14,508 | 15,168 | −660 | 0 | −660
Subtotal | 93 | 48,561 | 114,825 | −66,264 | 0 | −66,264
Implementing Agencies— | Review standards, SNAP-Ed Plan Guidance, and other FNS policy | 1 | 12 | 508 | −496 | 0 | −496
Local Government | Complete training | 2 | 138 | 19 | 119 | 0 | 119
| Recordkeeping requirements. | 1 | 276 | 1,476 | −1,200 | 0 | −1,200
Subtotal | 1 | 426 | 2,003 | −1,577 | 0 | −1,577
Implementing Agencies— | Review standards, SNAP-Ed Plan Guidance, and other FNS policy | 10 | 840 | 760 | 80 | 0 | 80
Tribal Government | Complete training | 9 | 27 | 25 | 2 | 0 | 2
| Recordkeeping requirements. | 10 | 2,520 | 2,256 | 264 | 0 | 264
Subtotal | 10 | 3,387 | 3,041 | 346 | 0 | 346
Total Estimated Recordkeeping Burden for State/Local/Tribal Government Level | 157 | 66,217 | 140,442 | −74,225 | 0 | −74,225
Implementing Agencies— | Review standards, SNAP-Ed Plan Guidance, and other FNS policy. | 40 | 14,880 | 106,872 | −91,992 | 0 | −91,992
Not-For-Profit Institution | Complete training | 31 | 93 | 133 | −40 | 0 | −40
| Recordkeeping requirements. | 40 | 8,320 | 12,768 | −4,448 | 0 | −4,448
Subtotal | 40 | 23,293 | 119,773 | −96,480 | 0 | −96,480
Total Estimated Recordkeeping Burden for Business Level | 40 | 23,293 | 119,773 | −96,480 | 0 | −96,480
TOTAL ESTIMATED RECORDKEEPING BURDEN | 197 | 89,510 | 260,215 | −170,705 | 0 | −170,705
GRAND TOTAL FOR REPORTING AND RECORDKEEPING BURDEN | 197 | 186,455 | 393,210 | −206,755 | 0 | −206,755
Note: The estimated average number of hours per response has been rounded to the nearest whole number in this table (column F).² The estimated total hours (column G) were calculated by multiplying the total annual responses (column E) by the estimated average number of hours per response prior to rounding (column F).

James C. Miller,
Administrator, Food and Nutrition Service.

[FR Doc. 2025-16895 Filed 9-2-25; 8:45 am]

BILLING CODE 3410-30-P